DEPARTMENT OF TRANSPORTATION

Federal Aviation Administration

Certification Guidance for Installation of Non-Essential, Non-Required Aircraft Cabin Systems & Equipment (CS&E), AC 20-XY

AGENCY: Federal Aviation Administration, DOT.

ACTION: Notice of availability and request for public comment.

SUMMARY: This notice announces the availability of and request for public comments on the proposed new Federal Aviation Administration (FAA) Advisory Circular (AC) 20-XY, Certification Guidance for Installation of Non-Essential, Non-Required Aircraft Cabin Systems & Equipment (CS&E). This AC provides primary certification guidance on how to meet the airworthiness requirements for the installation of non-essential, non-required aircraft cabin systems & equipment (CS&E).

DATES: Comments must be received on or before November 27, 2009.

ADDRESSES: Send all comments on the proposed new FAA AC 20-XY to: Federal Aviation Administration, Aircraft Certification Service, Aircraft Engineering Division, 950 L'Enfant Plaza, 5th Floor, SW., Washington, DC 20024. ATTN: John Petrakis, AIR-120. You may deliver comments to: Federal Aviation Administration, 950 L'Enfant Plaza, 5th Floor, SW., Washington, DC 20024, or electronically submit comments to the following Internet address: 9-AWA-AVS-AIR120-TechPrograms@faa.gov. Include in the subject line of your message the following: FAA AC 20-XY, Certification Guidance for Installation of Non-Essential, Non-Required Aircraft Cabin Systems & Equipment (CS&E).

FOR FURTHER INFORMATION CONTACT: John Petrakis, Senior Aerospace Engineer, Federal Aviation Administration, Aircraft Certification Service, Aircraft Engineering Division, Technical Programs and Continued Airworthiness Branch, AIR-120, 950 L'Enfant Plaza, 5th Floor, SW., Washington, DC 20024. Telephone (202) 385-6341, FAX (202) 385-6475, or e-mail at: john.petrakis@faa.gov.

SUPPLEMENTARY INFORMATION:

Comments Invited

You are invited to comment on the draft order listed in this notice by sending such written data, views, or arguments to the above listed address. Please identify “FAA AC 20-XY, Certification Guidance for Installation of Non-Essential, Non-Required Aircraft Cabin Systems & Equipment (CS&E)” as the subject of your comments. You may also examine comments received on the proposals before and after the comment closing date at FAA offices, 950 L'Enfant Plaza, 5th Floor, SW., Washington, DC 20024, weekdays except Federal holidays, between 8:30 a.m. and 4:30 p.m. The Director of the Aircraft Certification Service will consider all communications received on or before the closing date before issuing the final document.

Background

The FAA developed this new AC 20-XY with direct industry assistance through RTCA, Inc., Special Committee 210 (SC-210). This proposed AC will provide airworthiness certification guidance for the installation of non-essential, non-required aircraft cabin systems & equipment (CS&E). The proposed AC 20-XY incorporates the guidance in RTCA, Inc. document RTCA/DO-313, Certification Guidance for Installation of Non-Essential, Non-Required Aircraft Cabin Systems & Equipment, dated October 2, 2008. This AC will cancel AC 25-10, Guidance for Installation of Miscellaneous, Nonrequired Electrical Equipment, dated March 6, 1987.

How To Obtain Copies

You can get an electronic copy via the Internet at http://www.faa.gov/aircraft/draft_docs/, and then select Advisory Circulars, or by contacting the person named in the paragraph FOR FURTHER INFORMATION CONTACT.

Issued in Washington, DC on October 1, 2009.
Susan J. M. Cabler,
Assistant Manager, Aircraft Engineering Division, Aircraft Certification Service.

[FR Doc. E9-24516 Filed 10-9-09; 8:45 am]

BILLING CODE 4910-13-P